FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than March 5, 2018.

A. Federal Reserve Bank of St. Louis (David L. Hubbard, Senior Manager) P.O. Box 442, St. Louis, Missouri 63166-2034. Comments can also be sent electronically to Comments.applications@stls.frb.org:

1. Allen D. Soffer, as Trustee of the Donald G. Soffer 1995 Decanted Family Trust dated January 29, 2018, St. Louis, Missouri; to acquire shares of St. Louis Bancshares, Inc., Town & Country, Missouri, and thereby indirectly acquire shares of Saint Louis Bank, Town and Country, Missouri.

Board of Governors of the Federal Reserve System, February 7, 2018.
Ann E. Misback,
Secretary of the Board.

[FR Doc. 2018-02819 Filed 2-9-18; 8:45 am]

BILLING CODE P